DEPARTMENT OF COMMERCE

International Trade Administration

Initiation of Antidumping and Countervailing Duty Administrative Reviews, Request for Revocation in Part and Deferral of Administrative Review

AGENCY: Import Administration, International Trade Administration, Department of Commerce.

SUMMARY: The Department of Commerce (“the Department”) has received requests to conduct administrative reviews of various antidumping and countervailing duty orders and findings with May anniversary dates. In accordance with the Department's regulations, we are initiating those administrative reviews. The Department also received a request to revoke one antidumping duty order in part and to defer the initiation of an administrative review for another antidumping duty order.

EFFECTIVE DATE: June 29, 2007.

FOR FURTHER INFORMATION CONTACT: Sheila E. Forbes, Office of AD/CVD Operations, Customs Unit, Import Administration, International Trade Administration, U.S. Department of Commerce, 14th Street and Constitution Avenue, N.W., Washington, D.C. 20230, telephone: (202) 482-4697.

SUPPLEMENTARY INFORMATION:

Background

The Department has received timely requests, in accordance with 19 CFR 351.213(b), for administrative reviews of various antidumping and countervailing duty orders and findings with May anniversary dates. The Department also received a request to revoke in part the antidumping duty order on Antifriction Ball Bearings and Parts Thereof from the United Kingdom for one exporter. In addition, the Department received a request to defer for one year the initiation of the May 1, 2006 through April 30, 2007 administrative review of the antidumping duty order on Pure Magnesium from the People's Republic of China with respect to one exporter in accordance with 19 CFR 351.213(c). The Department received no objections to this request from any party cited in 19 CFR 351.213(c)(l)(ii).

Initiation of Reviews

In accordance with 19 CFR 351.221(c)(1)(i), we are initiating administrative reviews of the following antidumping and countervailing duty orders and findings. We intend to issue the final results of these reviews not later than May 31, 2008. Also, in accordance with 19 CFR 351.213(c), we are deferring for one year the initiation of the May 1, 2006 through April 30, 2007 administrative review of the antidumping duty order on Pure Magnesium from the People's Republic of China with respect to one exporter.

Antidumping Duty Proceedings | Period to be Reviewed
BELGIUM: Stainless Steel Plate in Coils
A-423-808 | 5/1/06 - 4/30/07
Ugine & ALZ Belgium
REPUBLIC OF KOREA: Certain Polyester Staple Fiber
A-580-839 | 5/1/06 - 4/30/07
Huvis Corporation
Saehan Industries, Inc.
Estal Industry Co., Ltd.
Daeyang Industrial Co., Ltd.
Samyang
TAIWAN: Polyester Staple Fiber
A-583-833 | 5/1/06 - 4/30/07
Far Eastern Textile Ltd.
THE PEOPLE'S REPUBLIC OF CHINA:Pure Magnesium¹
A-570-832 | 5/1/06 - 4/30/07
Shanxi Datuhe Coke & Chemicals Co., Ltd.
¹ If one of the above-named companies does not qualify for a separate rate, all other exporters of Pure Magnesium from the People's Republic of China who have not qualified for a separate rate are deemed to be covered by this review as part of the single PRC entity of which the named exporters are a part.

Antifriction Bearings Proceedings and Firms | Period/Class or Kind
FRANCE: A-427-801 | 5/1/06 - 4/30/07
SKF France S.A. and SKF Aerospace France S.A.S. | Ball
SNR Roulements | Ball
Hauni Maschinenbau AG | Ball
Hauni London Ltd. | Ball
Decoufle s.a.r.l. | Ball
Baltic Metalltechnik GmbH | Ball
Hauni Primary GmbH | Ball
Universelle Engineering U.N. I. GmbH | Ball
Essex Nexans L+K GmbH | Ball
Societe Nexans | Ball
S.A.S. Essex Nexans | Ball
Essex Nexans S.A.S. | Ball
Essex Nexans IVA | Ball
Essex Nexans UK Ltd. | Ball
Essex Nexans | Ball
Focke & Co./FOPAC Maschinenbau GmbH | Ball
RBK Machinery Sales | Ball
Molins PLC | Ball
ITCM | Ball
Molins Tobacco Machinery Ltd. | Ball
Molmac Engineering Ltd. | Ball
Cerulean Packing Machinery | Ball
IKN GmbH | Ball
Lentz & Schmahl GmbH & Co. KG | Ball
Christian Feddersen GmbH & Co. KG | Ball
WWC Service-Center GmbH | Ball
Brasanti Macchine S.p.A. | Ball
Sidel Group | Ball
Sidel Blowing & Services S.A.S. | Ball
Sidel Engineering & Turnkey S.A.S. | Ball
Sidel Conveying S.A.S. | Ball
Sidel Filling Food S.A.S. | Ball
Cermex | Ball
Sidel GmbH | Ball
Sidel Italia | Ball
Sidel UK Ltd. | Ball
GERMANY: A-428-801 | 5/1/06 - 4/30/07
Gebrueder Reinfurt GmbH & Co., KG | Ball
Schaeffler KG | Ball
NMB-minebea GmbH and Minebea Co., Ltd. | Ball
SKF GmbH | Ball
Hauni Maschinenbau AG | Ball
Hauni London Ltd. | Ball
Decoufle s.a.r.l. | Ball
Baltic Metalltechnik GmbH | Ball
Hauni Primary GmbH | Ball
Universelle Engineering U.N. I. GmbH | Ball
Essex Nexans L+K GmbH | Ball
Societe Nexans | Ball
S.A.S. Essex Nexans | Ball
Essex Nexans S.A.S. | Ball
Essex Nexans IVA | Ball
Essex Nexans UK Ltd. | Ball
Essex Nexans | Ball
Focke & Co./FOPAC Maschinenbau GmbH | Ball
RBK Machinery Sales | Ball
Molins PLC | Ball
ITCM | Ball
Molins Tobacco Machinery Ltd. | Ball
Molmac Engineering Ltd. | Ball
Cerulean Packing Machinery | Ball
IKN GmbH | Ball
Lentz & Schmahl GmbH & Co. KG | Ball
Christian Feddersen GmbH & Co. KG | Ball
WWC Service-Center GmbH | Ball
Brasanti Macchine S.p.A. | Ball
Sidel Group | Ball
Sidel Blowing & Services S.A.S. | Ball
Sidel Engineering & Turnkey S.A.S. | Ball
Sidel Conveying S.A.S. | Ball
Sidel Filling Food S.A.S. | Ball
Cermex | Ball
Sidel GmbH | Ball
Sidel Italia | Ball
Sidel UK Ltd. | Ball
ITALY: A-475-801 | 5/1/06 - 4/30/07
Schaeffler Italia SpA (formerly FAG Italia SpA) | Ball
SKF Industrie S.p.A. | Ball
Hauni Maschinenbau AG | Ball
Hauni London Ltd. | Ball
Decoufle s.a.r.l. | Ball
Baltic Metalltechnik GmbH | Ball
Hauni Primary GmbH | Ball
Universelle Engineering U.N. I. GmbH | Ball
Essex Nexans L+K GmbH | Ball
Societe Nexans | Ball
S.A.S. Essex Nexans | Ball
Essex Nexans S.A.S. | Ball
Essex Nexans IVA | Ball
Essex Nexans UK Ltd. | Ball
Essex Nexans | Ball
Focke & Co./FOPAC Maschinenbau GmbH | Ball
RBK Machinery Sales | Ball
Molins PLC | Ball
ITCM | Ball
Molins Tobacco Machinery Ltd. | Ball
Molmac Engineering Ltd. | Ball
Cerulean Packing Machinery | Ball
IKN GmbH | Ball
Lentz & Schmahl GmbH & Co. KG | Ball
Christian Feddersen GmbH & Co. KG | Ball
WWC Service-Center GmbH | Ball
Brasanti Macchine S.p.A. | Ball
Sidel Group | Ball
Sidel Blowing & Services S.A.S. | Ball
Sidel Engineering & Turnkey S.A.S. | Ball
Sidel Conveying S.A.S. | Ball
Sidel Filling Food S.A.S. | Ball
Cermex | Ball
Sidel GmbH | Ball
Sidel Italia | Ball
Sidel UK Ltd. | Ball
JAPAN: A-588-804 | 5/1/06 - 4/30/07
Aisin Seiki Company, Ltd. | Ball
Asahi Seiko Co., Ltd. | Ball
Canon, Inc. | Ball
JTEKT Corporation | Ball
Minebea Co., Ltd. and NMB/Minebea Co., Ltd. | Ball
Mori Seiki Co., Ltd. | Ball
Nachi-Fujikoshi Corporation | Ball
Nankai Seiko Co., Ltd. | Ball
Nippon Pillow Block Company Limited | Ball
NSK Ltd. | Ball
NTN Corporation | Ball
Sapporo Precision, Inc. | Ball
Toyota Motor Corporation/Toyota Industries Corporation | Ball
Yamazaki Mazak Trading Company | Ball
UNITED KINGDOM: A-412-801 | 5/1/06 - 4/30/07
NMB-minebea UK, Ltd. and Minebea Co., Ltd. | Ball
NSK Bearings Europe | Ball
Rolls Royce PLC | Ball
The Barden Corporation (U.K.), Ltd. | Ball
Hauni Maschinenbau AG | Ball
Hauni London Ltd. | Ball
Decoufle s.a.r.l. | Ball
Baltic Metalltechnik GmbH | Ball
Hauni Primary GmbH | Ball
Universelle Engineering U.N. I. GmbH | Ball
Essex Nexans L+K GmbH | Ball
Societe Nexans | Ball
S.A.S. Essex Nexans | Ball
Essex Nexans S.A.S. | Ball
Essex Nexans IVA | Ball
Essex Nexans UK Ltd. | Ball
Essex Nexans | Ball
Focke & Co./FOPAC Maschinenbau GmbH | Ball
RBK Machinery Sales | Ball
Molins PLC | Ball
ITCM | Ball
Molins Tobacco Machinery Ltd. | Ball
Molmac Engineering Ltd. | Ball
Cerulean Packing Machinery | Ball
IKN GmbH | Ball
Lentz & Schmahl GmbH & Co. KG | Ball
Christian Feddersen GmbH & Co. KG | Ball
WWC Service-Center GmbH | Ball
Brasanti Macchine S.p.A. | Ball
Sidel Group | Ball
Sidel Blowing & Services S.A.S. | Ball
Sidel Engineering & Turnkey S.A.S. | Ball
Sidel Conveying S.A.S. | Ball
Sidel Filling Food S.A.S. | Ball
Cermex | Ball
Sidel GmbH | Ball
Sidel Italia | Ball
Sidel UK Ltd | Ball
Countervailing Duty Proceedings
BELGIUM: Stainless Steel Plate in Coils
C-423-809 | 1/1/06 - 12/31/06
Ugine & ALZ Belgium²
Suspension Agreements
None.
Deferral of Initiation of Administrative Review
THE PEOPLE'S REPUBLIC OF CHINA: Pure Magnesium
A-570-832 | 5/1/06 - 4/30/07
Tianjin Magnesium Internaitonal Co., Ltd.
² Ugine & ALZ Belgium claims to be the successor-in-interest to ALZ N.V.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: June 25, 2007.
Susan H. Kuhbach,
Acting Deputy Assistant Secretary for Import Administration.

[FR Doc. E7-12644 Filed 6-28-07; 8:45 am]

BILLING CODE 3510-DS-S